LIBRARY OF CONGRESS

U.S. Copyright Office

37 CFR Parts 201, 220, 222, 223, and 224

[Docket No. 2021-6]

Copyright Claims Board: Initiation of Proceedings and Related Procedures

AGENCY: U.S. Copyright Office, Library of Congress.

ACTION: Notice of proposed rulemaking; extension of comment period.

SUMMARY: The U.S. Copyright Office is further extending the deadline for the submission of written comments in response to its September 29, 2021, notice of proposed rulemaking regarding initiating proceedings before the Copyright Claims Board.

DATES: The comment period for the notice of proposed rulemaking published September 29, 2021, at 86 FR 53897, is extended. Initial written comments must be received no later than 11:59 p.m. Eastern Time on November 30, 2021. Written reply comments must be received no later than 11:59 p.m. Eastern Time on December 15, 2021.

ADDRESSES: For reasons of government efficiency, the Copyright Office is using the regulations.gov system for the submission and posting of public comments in this proceeding. All comments are therefore to be submitted electronically through regulations.gov. Specific instructions for submitting comments are available on the Copyright Office website at http://copyright.gov/rulemaking/case-act-implementation/initiating-proceedings/. If electronic submission of comments is not feasible due to lack of access to a computer and/or the internet, please contact the Office using the contact information below for special instructions.

FOR FURTHER INFORMATION CONTACT: Megan Efthimiadis, Assistant to the General Counsel, by email at meft@copyright.gov, or by telephone at 202-707-8350.

SUPPLEMENTARY INFORMATION: On September 29, 2021, the U.S. Copyright Office issued a notice of proposed rulemaking (“NPRM”) regarding initiating proceedings before the Copyright Claims Board (“CCB”). The Office solicited public comments on a broad range of procedures governing the initial stages of a CCB proceeding, including filing the initial claim, opting out of a proceeding, and filing a response and any counterclaims.

On October 27, 2021, the Office extended the comment period in this proceeding by two weeks. In response to stakeholder requests following that extension, the Office is now further extending the deadline for the submission of initial comments to no later than 11:59 p.m. Eastern Time on November 30, 2021, and the deadline for the submission of reply comments to no later than 11:59 p.m. Eastern Time on December 15, 2021. The Office does not intend to grant further extensions in this proceeding.

Dated: November 10, 2021.
Kevin R. Amer,
Acting General Counsel and Associate Register of Copyrights.

[FR Doc. 2021-25001 Filed 11-16-21; 8:45 am]

BILLING CODE 1410-30-P